DEPARTMENT OF COMMERCE

Foreign-Trade Zones Board

[S-122-2024]

Approval of Subzone Status; Catalent Pharma Solutions, LLC; Winchester, Kentucky

On July 23, 2024, the Executive Secretary of the Foreign-Trade Zones (FTZ) Board docketed an application submitted by the Louisville & Jefferson County Riverport Authority, grantee of FTZ 29, requesting subzone status subject to the existing activation limit of FTZ 29, on behalf of Catalent Pharma Solutions, LLC, in Winchester, Kentucky.

The application was processed in accordance with the FTZ Act and Regulations, including notice in the Federal Register inviting public comment (89 FR 60861, July 29, 2024). The FTZ staff examiner reviewed the application and determined that it meets the criteria for approval. Pursuant to the authority delegated to the FTZ Board Executive Secretary (15 CFR 400.36(f)), the application to establish Subzone 29Y was approved on September 19, 2024, subject to the FTZ Act and the Board's regulations, including section 400.13, and further subject to FTZ 29's, 2,000-acre activation limit.

Dated: September 19, 2024.
Elizabeth Whiteman,
Executive Secretary.

[FR Doc. 2024-21821 Filed 9-23-24; 8:45 am]

BILLING CODE 3510-DS-P